DEPARTMENT OF THE TREASURY

Proposed Collection; Comment Request

AGENCY: Departmental Offices, Treasury.

ACTION: Notice and request for comments.

SUMMARY: The Department of the Treasury, as part of its continuing effort to reduce paperwork and respondent burden, invites the general public and other Federal agencies to comment on this continuing information collection, as required by the Paperwork Reduction Act of 1995, Public Law 104-13 (44 U.S.C. 3506(c)(2)(A)).

DATES: Written comments should be received on or before September 30, 2016 to be assured of consideration.

ADDRESSES: Send comments regarding the burden estimate, or any other aspect of the information collection, including suggestions for reducing the burden, to the Department of the Treasury, Office of the Fiscal Assistant Secretary, ATTN: Sustanchia Gladden, 1500 Pennsylvania Avenue NW., Room 1050, Washington, DC 20020 or to Sustanchia.Gladden@treasury.gov.

FOR FURTHER INFORMATION CONTACT: Requests for additional information should be directed to the Department of the Treasury, Office of the Fiscal Assistant Secretary, ATTN: Sustanchia Gladden, 1500 Pennsylvania Avenue NW., Room 1050, Washington, DC 20020 or to Sustanchia.Gladden@treasury.gov.

SUPPLEMENTARY INFORMATION:

OMB Control Number: 1505-0221.

Title: Annual Performance Report and Certification for Section 1603: Payments for Specified Renewable Energy Property in Lieu of Tax Credits.

Abstract: The purpose of the 1603 payment is to reimburse eligible applicants for a portion of the cost of installing specified energy property used in a trade or business or for the production of income. A 1603 payment is made after the energy property is placed in service. Applicants for Section 1603 payments commit in the terms and conditions that are part of the Treasury program application to submitting an annual report for five years from the date the energy property is placed in service.

Type of Review: Extension of a currently approved collection.

Affected Public: State, local, or tribal governments.

Estimated Number of Respondents: 150,000.

Estimated Hours per Response: 0.25.

Estimated Total Annual Burden Hours: 37,500.

Request for Comments: Comments submitted in response to this notice will be summarized and included in the request for Office of Management and Budget approval. Comments may become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide information.

Dated: July 26, 2016.
Brenda Simms,
Treasury PRA Clearance Officer.

[FR Doc. 2016-18049 Filed 7-29-16; 8:45 am]

BILLING CODE 4810-25-P